DEPARTMENT OF COMMERCE

National Oceanic and Atmospheric Administration

RIN 0648-XB169

Endangered and Threatened Species; Take of Anadromous Fish

AGENCY: National Marine Fisheries Service (NMFS), National Oceanic and Atmospheric Administration (NOAA), Commerce.

ACTION: Applications for eight new scientific research permits, four research permit renewals, and three permit modifications.

SUMMARY: Notice is hereby given that NMFS has received 15 scientific research permit application requests relating to Pacific salmon, the southern distinct population segment of pacific green sturgeon, and three species of rockfish from the Puget Sound/Georgia Basin. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on May 24, 2012.

ADDRESSES: Written comments on the applications should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): threatened Puget Sound (PS); threatened lower Columbia River (LCR); endangered upper Columbia River (UCR); threatened Snake River (SR) spring/sum (spr/sum); threatened SR fall;

Steelhead (O. mykiss): threatened PS; threatened LCR; threatened UCR; threatened SR; threatened middle Columbia River (MCR).

Chum salmon (O. keta): Threatened Hood Canal (HC) summer-run, threatened Columbia River (CR).

Coho salmon (O. kisutch): Threatened LCR, threatened Oregon Coast (OC).

Sockeye salmon (O. nerka): Threatened Ozette Lake (OL); endangered SR.

Rockfish: Puget Sound/Georgia Basin (PS/GB) bocaccio (Sebastes paucispinis); PS/GB canary rockfish (Sebastes pinniger), and PS/GB yelloweye rockfish (Sebastes ruberrimus).

Pacific green sturgeon (Acipenser medirostris): Threatened SDPS.

Authority

Scientific research permits are issued in accordance with section 10(a)(1)(A) of the ESA (16 U.S.C. 1531 et seq.) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1386—6R

The Washington Department of Ecology (WDOE) is seeking to renew for five years a research permit that currently allows them to take juvenile and adult LCR Chinook salmon, PS Chinook salmon, SR spring/summer-run Chinook salmon, SR fall-run Chinook salmon, UCR spring-run Chinook salmon, CR chum salmon, HC summer-run chum salmon, LCR coho salmon, OL sockeye salmon, LCR steelhead, MCR steelhead, PS steelhead, SR steelhead, and UCR steelhead. The WDOE conducts various research projects to characterize toxic contaminants in resident freshwater fish across the state of Washington. The purpose of the research is to investigate the occurrence and concentrations of toxic contaminants in non-anadromous freshwater fish tissue, sediment, and water from sites throughout Washington. WDOE conducts this research in order to meet Federal and state regulations. The Federal Clean Water Act requires that all waters in the state be assessed in this manner. This research would benefit listed species by identifying toxic contaminants present in fish and thereby help inform pollution control actions such as removing and reducing toxic contaminant sources. The WDOE proposes to capture fish using backpack and boat electrofishing, beach seines, block, fyke, and gill nets, and angling. All captured salmon and steelhead would be either released immediately or held temporarily in an aerated live well to help them recover before being released. The researchers do not propose to kill any of the listed fish being captured, but a small number may die as an unintended result of the activities.

Permit 1465—2R

The Idaho Department of Environmental Quality (IDEQ) is seeking to renew their permit to annually take juvenile threatened SR steelhead, threatened SR fall Chinook salmon, threatened SR spr/sum Chinook salmon, and endangered SR sockeye salmon during the course of two research projects designed to ascertain the condition of many Idaho streams. The purposes of the research are to (a) determine whether aquatic life is being properly supported in Idaho's rivers, streams, and lakes, and (b) assess the overall condition of Idaho's surface waters. The fish would benefit from the research because the data it produces would be used to inform decisions about how and where to protect and improve water quality in the state. The researchers would use backpack- and boat-electrofishing equipment to capture the fish. They would then be weighed and measured (some may be anesthetized to limit stress) and released. The IDEQ does not intend to kill any of the fish being captured, but a small percentage may die as an unintended result of the research activities.

Permit 13381—2R

The Northwest Fisheries Science Center (NWFSC) is seeking to renew their permit to annually take natural juvenile SR spring/summer Chinook salmon and SR steelhead in various places in the Salmon River drainage in Idaho and at Little Goose and Lower Granite Dams on the lower Snake River. The purpose of the research is to continue monitoring parr-to-smolt survival and outmigration behavior in SR wild spring/summer Chinook salmon populations from Idaho. Steelhead juveniles that are inadvertently collected would also be tagged to help supplement an ongoing Idaho Department of Fish and Game study. The research will benefit the fish by continuing to supply managers with the information they need to budget water releases at hydropower facilities in ways designed to help protect migrating juvenile salmonids. The information gained would also be used to build long-term data sets on parr-to-smolt migration behavior and survival rates. This information, coupled with water quality, weather, and climate data, is intended to provide a foundation for understanding these populations' life histories—the knowledge of which is critical to building effective recovery actions. The listed fish would be captured (using seines, dip nets, and electrofishing), PIT-tagged, and released. A portion of these fish would also be recaptured at a smolt bypass facility, anesthetized, weighed, measured, and released. The researchers do not intend to kill any of the fish being captured, but a small percentage may die as an unintended result of the research activities.

Permit 13382—2R

The NWFSC is seeking to renew for five years a permit that currently allows them to annually take juvenile threatened SR spr/sum Chinook salmon and natural, juvenile threatened SR steelhead at various places in the Snake River in Idaho and in various streams of Southeast Washington and Northeast Oregon. The activities under this permit have been under way for more than 10 years—first under Permit 1406 and then under the current version of Permit 13382. Under the permit, the listed fish would be variously captured (using seines, dip nets, traps, and electrofishing), anesthetized, tissue sampled, weighed, measured, and released.

The purpose of the research is to continue monitoring the effects of supplementation among steelhead spring/summer Chinook salmon populations in Idaho. The research would benefit the fish by continuing to supply managers with the information they need to use hatchery programs to conserve listed species. The researchers do not intend to kill any of the fish being captured, but some may die as an unintended result of the process.

Permit 15205—2M

The KWIAHT Center for the Historical Ecology of the Salish Sea (KWIAHT) is seeking to modify a 5-year research permit that currently allows them to take juvenile PS Chinook salmon at sampling sites near Lopez and Waldron islands in the San Juan Island archipelago in Puget Sound. The purpose of this research is to measure prey quantity and quality for juvenile Chinook and other salmonids when they congregate annually in the San Juan Islands basin. This research would benefit PS Chinook salmon by analyzing the importance of terrestrial prey to juvenile wild Chinook during their neritic life history stage. The KWIAHT proposes to use beach seines to capture the fish. The fish would be captured, anesthetized, measured, fin-clipped, sampled for stomach contents, allowed to recover, and released. The researchers do not propose to kill any of the listed salmonids being captured, but a small number may die as an unintended result of the activities.

Permit 16142—2M

The Confederated Tribes of the Warm Springs Reservation of Oregon (CTWSRO) are seeking to modify their 5-year permit that currently allows them to capture, handle, and release juvenile MCR steelhead in the John Day River, Oregon. The current purpose of the research is to monitor anadromous fish response to habitat restoration projects throughout the John Day Basin. The CTWSRO are seeking to expand upon that research by adding juvenile mark/recapture studies and adult spawning surveys in various drainages in the John Day River Basin for the purpose of determining adult return success and making juvenile abundance estimates. This new project would establish baseline estimates at 10 sampling locations and then resample those sites to evaluate the impact restoration projects have on juvenile Chinook and steelhead abundance. The research would continue to benefit the fish by helping managers determine the most effective ways to restore habitat.

Under the expanded research, the researchers would set up survey reaches at each site and use block nets at the upstream and downstream boundaries to temporarily curtail fish movement. In those reaches, fish would be collected using backpack electrofishing equipment or seine nets. Once the fish are collected, they would be placed in an aerated bucket and anesthetized. They would then be counted, measured, weighed, marked with a caudal fin clip, allowed to recover, and released back into the sampling reach. A second fish sampling event (using the same collection methods) would be conducted within 24 hours of each initial survey. The researchers would use these two samples to estimate fish abundance and density. The surveys would be conducted at the same locations on an annual basis in order to assess population trends. The researchers do not intend to kill any listed salmonids, but a small number may die as an unintended result of the activities.

Permit 16298—2M

The Shoshone-Bannock Tribes (SBT) are seeking to modify their 5-year permit to annually take juvenile and adult SR spr/sum Chinook and juvenile SR steelhead in Bear Valley Creek, Idaho. The purpose of the research is to estimate fish abundance, smolt-to-adult return rates, and adult productivity in Bear Valley Creek with a high degree of accuracy. The researchers are seeking to continue generating information that may be used widely throughout the Salmon River subbasin. The work will benefit fish by giving managers key information about population status in the Salmon River subbasin which, in turn, will be used to inform recovery plans and land- and fish-management decisions. The SBT would count and monitor adult spr/sum Chinook at a video station and they would handle, measure, and tissue sample juvenile SR spr/sum Chinook and steelhead at a screw trap. They would also do some harvest monitoring (creel surveys) and spawning ground surveys. The researchers do not intend to kill any listed salmonids, but a small number may die as an unintended result of the activities.

Permit 16433

The Washington Department of Fish and Wildlife (WDFW) is seeking a 5-year permit to annually take UCR steelhead and Chinook and MCR steelhead while conducting resident fish studies in portions of the mainstem Columbia River. They would conduct two studies under the permit. The first is the Rocky Reach Project Resident Fish Study. The intent of this project is to provide baseline data about resident fish (i.e., their relative abundance and species composition) in the area of Rocky Reach Dam. The sampling will provide baseline data for managers to identify potential changes in the local fish assemblages over time and it would benefit listed fish by helping managers run recreational fisheries in the least harmful manner possible. The second project is the Priest Rapids Predator Index. Its purpose is to study northern pikeminnow populations in the area around Priest Rapids Dam and, in many cases, remove those predators. The research would benefit listed salmonids because the pikeminnow is a salmonid predator and monitoring and curtailing their population is likely to result in fewer salmon being eaten in the areas where the pikeminnow reside.

The surveys would be conducted using boat electrofishing equipment, fyke nets, tangle nets, and pop-nets in the littoral zones of the Columbia River near Rocky Reach and Priest Rapids Dams. Any juvenile listed salmonids captured during the research would be sampled for biological information and released as quickly as possible. If adult listed salmonids are seen, the electrofishing equipment would be turned off and the fish allowed to escape. The researchers do not intend to kill any listed salmonids, but a small number may die as an unintended result of the activities.

Permit 16838

The WDFW is seeking a 2-year research permit to annually take juvenile and adult PS Chinook salmon. Sampling sites would be located in Lake Cushman on the North Fork of the Skokomish River. The purpose of the study is to quantify the Lake Cushman Reservoir fish species composition, distribution, growth, condition, pathology, toxicology, and life history characteristics and determine how fish community structure relates to reservoir productivity. This research would benefit PS Chinook salmon by increasing our understanding the Lake Cushman fish community and the threats it faces before a fish ladder is constructed that would allow anadromous fish passage to the lake. The WDFW proposes to capture fish using boat electrofishing and gill nets. All Chinook salmon would be held in portable net pens or aerated live wells, measured, weighed, sampled for scales (up to five fish from each size class for aging) and pelvic fin clips (<1 mm in size), and release. The researchers do not propose to kill any of the listed salmonids being captured, but a small number may die as an unintended result of the activities. If any Chinook salmon are killed, they would be collected for toxicology and pathology analysis.

Permit 16994

The Alaska Fisheries Science Center (AFSC) is seeking a 3-year research permit to annually take juvenile and adult PS Chinook salmon, PS steelhead, Southern green sturgeon, and PS/GB bocaccio. The AFSC researchers may also take PS/GB canary rockfish and PS/GB yelloweye rockfish—species for which there are currently no ESA take prohibitions. The sampling sites would primarily be located near Agate Pass (adjacent to the Kitsap Peninsula) but may occur throughout the Puget Sound. The objective of the study is to use a series of common egg- and larva garden rearing experiments to assess the evidence for adaptive genetic variation among pacific cod. These experiments would be augmented by extensive genomic scans to identify the functional genes involved in localized adaptation. The research would benefit listed rockfish by providing genetic information to help increase our understanding of the species. The AFSC proposes to capture adult cod using hook and line by jigging gear with barbless hooks and knotless landing nets in shallow water (< 35m) near Agate Pass. Pot trap gear may also be employed at the same depths. All Chinook salmon, steelhead, and sturgeon would be immediately released at the capture site. If listed rockfish are captured, the researchers would remove a small portion of fin tissue for genetics studies and return the fish to the water via rapid submersion techniques. If an individual of these species is captured dead or deemed nonviable, it would be retained for genetic analyses. The researchers do not propose to kill any of the listed fish being captured, but a small number may die as an unintended result of the activities.

Permit 17043

The University of Washington (UW) is seeking a 2-year research permit to annually take juvenile and adult PS Chinook salmon, HC summer-run chum salmon, and PS steelhead. The UW researchers may also take PS/GB canary rockfish and PS/GB yelloweye rockfish—species for which, there are currently no ESA take prohibitions. Sampling would take place in Hood Canal. The purposes of the study are to: (1) Describe the magnitude and mechanisms by which hypoxia affects upper trophic level organisms in Hood Canal and (2) document these key processes and track the ecological effects of hypoxia with the goal of evaluating and improving corrective actions. The research would benefit rockfish and salmonids by helping managers better understand the ecological damage caused by hypoxia in Hood Canal and thus improving mitigation measures. The UW proposes to capture fish using a Marinovich mid-water trawl. Once the tow is completed, the catch would be brought on board a research vessel and placed into a seawater-filled holding tank. All salmon and steelhead deemed viable would be immediately released at the capture site. Dead or nonviable salmon and steelhead would be measured for length and weight and sampled for otoliths, stomach contents, and tissues. If listed rockfish are captured, the researchers would remove a small portion of fin tissue for genetics studies and return the fish to the water via rapid submersion techniques. If an individual of these species is captured dead or deemed nonviable, it would be retained for genetic analyses. The researchers do not propose to kill any of the listed fish being captured, but a small number may die as an unintended result of the activities.

Permit 17062

The NWFSC is seeking a 2-year research permit to annually take juvenile PS Chinook salmon, PS steelhead, and PS/GB bocaccio. The researchers may also take PS/GB canary rockfish and PS/GB yelloweye rockfish—species for which there are currently no ESA take prohibitions. Sampling would take place in the San Juan Islands region just north of Orcas Island. The purpose of the study is to monitor the movement patterns of yelloweye and canary rockfish using acoustic telemetry. The research would benefit rockfish by increasing our understanding of the connectivity (or lack thereof) between rockfish populations in the Puget Sound and populations on the outer coast. The NWFSC proposes to capture fish using hook and line equipment at depths of 50-100 meters during slack tides. Fish would slowly be reeled to the surface to reduce barotrauma. All Chinook salmon and steelhead would be immediately released at the capture site. Canary and yelloweye rockfish would have acoustic transmitters surgically placed in their peritoneal cavities. All captured ESA-listed rockfish would have a small portion of their fin tissue removed for genetics studies and be returned to the water via rapid submersion techniques. If an individual of these species is captured dead or deemed nonviable, it would be retained for genetic analysis. The researchers do not propose to kill any of the listed fish being captured, but a small number may die as an unintended result of the activities.

Permit 17109

R2 Resource Consultants (R2RC) are seeking a 3-year research permit to annually take juvenile PS Chinook salmon and PS steelhead. Sampling sites would be located in the Lake Washington Ship Canal between the Ballard Locks and Shilshole Bay. The purpose of the study is to identify the spatial and temporal distribution of bull trout in the Lake Washington Ship Canal and in the nearshore waters of Shilshole Bay. The research would benefit listed fish by improving management decisions regarding operations at the Hiram Chittenden Locks, as well as by providing valuable information on the overall picture of bull trout populations and their life histories in Puget Sound. The researchers propose to use beach seines to capture the fish. All Chinook salmon and steelhead would be immediately released at the capture. The researchers do not propose to kill any of the listed salmonids being captured, but a small number may die as an unintended result of the activities.

Permit 17214

The U.S. Fish and Wildlife Service (FWS) is seeking a 1-year research permit to annually take juvenile PS Chinook salmon and PS steelhead. The sampling would take place in Dean Creek, Washington (a tributary flowing into Sequim Bay). The purpose of the study is to determine fish species presence and distribution in Dean Creek and its environs; this information would be used to inform the Dungeness Wildlife Refuge comprehensive conservation plan. The research would benefit listed salmonids by identifying and prioritizing management activities designed to protect fish species in this stream. The FWS proposes capturing fish by using backpack electrofishing equipment. Fish would be collected with dip nets, enumerated, allowed to recover in aerated water, and released back into their capture locations. The researchers do not propose to kill any of the listed salmonids being captured, but a small number may die as an unintended result of the activities.

Permit 17222

The Confederated Tribes of the Warm Springs Reservation of Oregon (CTWSRO) are seeking a 5-year permit to annually take MCR steelhead during the course of research designed to determine the feasibility of PIT-tagging juvenile summer/fall Chinook (a non-listed species) in the Deschutes River, Oregon. The purpose of the research is to generate population metrics such as juvenile growth rates, smolt-to-adult return ratios, size/condition at emigration, etc. This information would be used to develop performance indicators for monitoring the fishes' status and trends. This research would benefit listed species by helping managers develop a picture of river health and salmonid population trends in the Deschutes River. That information, in turn, would be used in recovery planning efforts and generally incorporated into resource management decisions that may affect the Deschutes River. The researchers intend to use seines to capture the fish and all captured MCR steelhead will be released immediately. The researchers do not propose to kill any of the listed salmonids being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 19, 2012.
Angela Somma,
Chief, Endangered Species Division, Office of Protected Resources, National Marine Fisheries Service.

[FR Doc. 2012-9866 Filed 4-23-12; 8:45 am]

BILLING CODE 3510-22-P